DEPARTMENT OF TRANSPORTATION

Federal Aviation Administration

14 CFR Part 71

[Docket No. FAA-2024-2226; Airspace Docket No. 24-ASW-1]

RIN 2120-AA66

Amendment of RNAV Route Q-33 in the Vicinity of Winnfield, LA

AGENCY: Federal Aviation Administration (FAA), DOT.

ACTION: Notice of proposed rulemaking (NPRM).

SUMMARY: This action proposes to amend United States Area Navigation (RNAV) Route Q-33. The FAA is proposing this action due to the planned decommissioning of the Very High Frequency Omnidirectional Range (VOR) portion of the Sawmill, LA (SWB), VOR/Distance Measuring Equipment (VOR/DME) navigational aid (NAVAID). The Sawmill VOR is being decommissioned in support of the FAA's VOR Minimum Operational Network (MON) program.

DATES: Comments must be received on or before November 4, 2024.

ADDRESSES: Send comments identified by FAA Docket No. FAA-2024-2226 and Airspace Docket No. 24-ASW-1 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

United States Area Navigation Routes are published in paragraph 2006 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

The FAA is planning to decommission the VOR portion of the Sawmill, LA, VOR/DME in April 2025. The Sawmill VOR is one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Sawmill VOR/DME is planned for decommissioning, the co-located DME is being retained to continue providing service supporting current and future NextGen PBN flight procedure requirements.

The Air Traffic Service (ATS) routes affected by the planned decommissioning of the Sawmill VOR are Jet Route J-180 and RNAV Route Q-33. Proposed amendments to J-180 have been published previously in a separate NPRM so that route is not addressed further in this action. With the planned decommissioning of the VOR portion of the Sawmill VOR/DME, the remaining ground-based NAVAID coverage in the area is insufficient to enable the continuity of RNAV route Q-33. As such, proposed modifications to Q-33 would result in the existing route being retained by replacing the Sawmill VOR/DME route point with a Waypoint (WP) in the immediate vicinity of the NAVAID. Additionally, the FAA is proposing to replace the Daisetta, TX, VOR/Tactical Air Navigation (VORTAC) route point with a WP in the immediate vicinity of that NAVAID, as well.

RNAV-equipped aircraft operating under Instrument Flight Rules (IFR) would continue to be able to navigate using Q-33 to transit the area affected by the planned decommissioning of the Sawmill VOR and the changed Daisetta VORTAC route point or receive radar vectors from air traffic control (ATC).

The Proposal

The FAA is proposing an amendment to 14 CFR part 71 to amend RNAV Route Q-33 due to the planned decommissioning of the VOR portion of the Sawmill, LA, VOR/DME. The proposed Q-33 amendment is described below.

Q-33: Q-33 currently extends between the Humble, TX, VORTAC and the PROWL, MO, WP. The FAA proposes to replace the Sawmill, LA, VOR/DME route point with the SWEUP, LA, WP and replace the Daisetta, TX, VORTAC route point with the TAYUR, TX, WP. Both WPs would be established in the immediate vicinity of the NAVAIDs they are replacing and result in extremely minor alignment changes of the route. As amended, the route would continue to extend between the Humble VORTAC and the PROWL WP.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2006 United States Area Navigation Routes.

* * * * *

Q-33 Humble, TX (IAH) to PROWL, MO [Amended]
Humble, TX (IAH) | VORTAC | (Lat. 29°57′24.90″ N, long. 095°20′44.59″ W)
TAYUR, TX | WP | (Lat. 30°11′23.40″ N, long. 094°38′41.48″ W)
SWEUP, LA | WP | (Lat. 31°58′23.07″ N, long. 092°40′38.00″ W)
LITTR, AR | WP | (Lat. 34°40′39.90″ N, long. 092°10′49.26″ W)
PROWL, MO | WP | (Lat. 37°02′00.00″ N, long. 091°15′00.00″ W)

* * * * *

Issued in Washington, DC, on September 16, 2024,
Frank Lias,
Manager, Rules and Regulations Group.

[FR Doc. 2024-21454 Filed 9-19-24; 8:45 am]

BILLING CODE 4910-13-P